DEPARTMENT OF THE INTERIOR

Bureau of Land Management

[CA-310-0777-XG]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northwest California Resource Advisory Council will meet as indicated below.

DATES: The meeting will be held Thursday and Friday, Dec. 7 and 8, 2006, in Redding, California. On Dec. 7, the members will convene at the BLM Redding Field Office, 355 Hemsted Dr., and depart immediately for a field trip to the upland areas of the Sacramento River Bend Area of Critical Environmental Concern. Members of the public are welcome on the tour. They must provide their own transportation and lunch. On Dec. 8, the meeting begins at 8 a.m. in the Conference Room of the Redding Field Office. Time for public comments is reserved for 11 a.m.

FOR FURTHER INFORMATION CONTACT: Lynda Roush, BLM Arcata Field Office manager, (707) 825-2300; or BLM Public Affairs Officer Joseph J. Fontana, (530) 252-5332.

SUPPLEMENTARY INFORMATION: The 12-member council advises the Secretary of the Interior, through the BLM, on a variety of planning and management issues associated with public land management in Northwest California. At this meeting, agenda items include discussion of RAC involvement in developing recreation fee business plans, an update on development of a management plan for the South Spit at Humboldt Bay, resource management issues associated with abalone harvest offshore from the Stornetta Public Lands and an update on recovery from wildfire. The RAC members will also hear status reports from the Arcata, Redding and Ukiah field office managers. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: October 6, 2006.
Joseph J. Fontana,
Public Affairs Officer.

[FR Doc. 06-8712 Filed 10-13-06; 8:45 am]

BILLING CODE 4310-40-M